FEDERAL ACCOUNTING STANDARDS ADVISORY BOARD

Notice of Issuance of Exposure Draft on Deferral of the Transition of Long-Term Projections to Basic Information

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Federal Accounting Standards Advisory Board has released an Exposure Draft entitled Deferral of the Transition of Long-Term Projections to Basic Information.

The Exposure Draft is available on the FASAB Web site: http://www.fasab.gov/board-activities/documents-for-comment/exposure-drafts-and-documents-for-comment/.

Copies can be obtained by contacting FASAB at (202) 512-7350.

Respondents are encouraged to comment on any part of the exposure draft. Written comments are requested by June 26, 2014, and should be sent to:

Wendy M. Payne, Executive Director, Federal Accounting Standards Advisory Board, 441 G Street NW., Suite 6814, Mail Stop 6H19, Washington, DC 20548.

FOR FURTHER INFORMATION CONTACT: Wendy Payne, Executive Director, at (202) 512-7350.

Authority: Federal Advisory Committee Act, Public Law 92-463.

Dated: June 20, 2014.
Charles Jackson,
Federal Register Liaison Officer.

[FR Doc. 2014-14853 Filed 6-23-14; 8:45 am]

BILLING CODE 1610-02-P